ENVIRONMENTAL PROTECTION AGENCY

40 CFR Part 52

[EPA-R06-OAR-2008-0636; FRL-9922-25-Region 6]

Approval and Promulgation of Air Quality Implementation Plans; New Mexico; Albuquerque/Bernalillo County; Revisions to Emissions Inventory Requirements, and General Provisions

AGENCY: Environmental Protection Agency.

ACTION: Direct final rule.

SUMMARY: The Environmental Protection Agency (EPA) is approving revisions to the Albuquerque/Bernalillo County, New Mexico State Implementation Plan (SIP). These revisions add definitions and clarifying changes to the general provisions and add a new emissions inventory regulation that establishes reporting requirements for stationary sources in Albuquerque/Bernalillo County. The EPA is approving these revisions pursuant to section 110 of the Clean Air Act (CAA).

DATES: This rule will be effective on April 3, 2015 without further notice unless EPA receives relevant adverse comments by March 4, 2015. If EPA receives such comments, EPA will publish a timely withdrawal in the Federal Register informing the public that the rule will not take effect.

ADDRESSES: Submit your comments, identified by Docket ID No. EPA-R06-OAR-2008-0636, by one of the following methods:

• www.regulations.gov. Follow the online instructions.

• Email: Mr. Guy Donaldson at donaldson.guy@epa.gov. Please also send a copy by email to the person listed in the FOR FURTHER INFORMATION CONTACT section below.

• Mail or Delivery: Mr. Guy Donaldson, Chief, Air Planning Section (6PD-L), Environmental Protection Agency, 1445 Ross Avenue, Suite 1200, Dallas, Texas 75202-2733.

Instructions: Direct your comments to Docket ID No. EPA-R06-OAR-2008-0636. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: All documents in the docket are listed in the www.regulations.gov index and in hard copy at EPA Region 6, 1445 Ross Avenue, Suite 700, Dallas, Texas. While all documents in the docket are listed in the index, some information may be publicly available only at the hard copy location (e.g., copyrighted material), and some may not be publicly available at either location (e.g., CBI). To inspect the hard copy materials, please schedule an appointment with the person listed in the FOR FURTHER INFORMATION CONTACT paragraph below or Mr. Bill Deese at (214) 665-7253.

FOR FURTHER INFORMATION CONTACT: Mr. John Walser (6PD-L), Air Planning Section, telephone (214) 665-7128, email: walser.john@epa.gov.

SUPPLEMENTARY INFORMATION: Throughout this document, “we,” “us,” and “our” means EPA.

Table of Contents

I. Background

A. What is a SIP?

B. What are Emissions Inventories?

II. Overview of the State Submittals

A. May 6, 2008 Submittal

B. November 6, 2009 Submittals

C. December 15, 2010 Submittal

D. October 18, 2012 Submittal

III. EPA's Evaluation of the Submittals

IV. Final Action

V. Statutory and Executive Order Reviews

I. Background

A. What is a SIP?

Section 110 of the CAA requires states to develop air pollution regulations and control strategies to ensure that air quality meets the National Ambient Air Quality Standards (NAAQS) established by EPA. The NAAQS are established under section 109 of the CAA and currently address six criteria pollutants: Carbon monoxide, nitrogen dioxide, ozone, lead, particulate matter, and sulfur dioxide. A SIP is a set of air pollution regulations, control strategies, other means or techniques, and technical analyses developed by the state, to ensure that air quality in the state meets the NAAQS. It is required by section 110 and other provisions of the CAA. A SIP protects air quality primarily by addressing air pollution at its point of origin. SIPs can be extensive, containing state regulations or other enforceable documents, and supporting information such as emissions inventories, monitoring networks, and modeling demonstrations. Each state must submit any SIP revision to EPA for approval and incorporation into the federally-enforceable SIP.

The New Mexico SIP includes a variety of control strategies, including the regulations that outline general provisions applicable to Albuquerque/Bernalillo County Air Quality Control Board (AQCB) regulations and emissions inventory requirements.

B. What are Emissions Inventories?

Emissions inventories are surveys of actual and/or allowable emissions of air pollutants in an area. They are critical for the efforts of state, local, and federal agencies to attain and maintain the NAAQS that EPA has established for criteria pollutants such as ozone, particulate matter, and carbon monoxide. EPA issued the consolidated emissions reporting rule on June 10, 2002 (67 FR 39602). The rule can be found at 40 CFR part 51 Subpart A—Air Emissions Reporting Requirements. The rule consolidated the various emissions reporting requirements that already existed into one place in the CFR, established new reporting requirements related to particulate matter less than or equal to 2.5 microns (PM2.5) and regional haze, and established new requirements for the statewide reporting of area source and mobile source emissions. In 2008 EPA modified its requirements for collecting and reporting air emissions data by publishing the Air Emission Reporting Requirements in the Federal Register on December 17, 2008 (73 FR 76539). The requirements (1) provide options to the state and local air pollution control agencies responsible for reporting data, (2) shorten the timeline for reporting data, (3) eliminate the emissions reporting requirement for biogenic emissions, and (4) require state and local agencies to adopt the definition of a “point source” as specified under title V of the Clean Air Act.

II. Overview of the State Submittals

The revisions we are approving address Title 20, Chapter 11, Part 2 General Provisions of the New Mexico Administrative Code (20.11.1 NMAC General Provisions) and Title 20, Chapter 11, Part 47 Emissions Inventory Requirements of the New Mexico Administrative Code (20.11.47 NMAC Emissions Inventory Requirements). These revisions apply to sources in Bernalillo County, excluding sources in Indian lands over which the AQCB lacks jurisdiction. We have prepared a Technical Support Document (TSD) for this action which details our evaluation. Our TSD may be accessed on-line at http://www.regulations.gov, Docket No. EPA-R06-OAR-2008-0636.

A. The May 6, 2008 Submittal

On May 6, 2008, New Mexico submitted a revision to the Albuquerque/Bernalillo County SIP. The revision established a new regulation, 20.11.47 NMAC, Emissions Inventory Requirements. The AQCB approved the new regulation on March 12, 2008. The new regulation adds various sections, including a section on definitions (20.11.46.7 NMAC), emissions inventory and reporting requirements (20.11.47.14 NMAC) and greenhouse gas emissions inventory requirements (20.11.47.15 NMAC).

B. The November 6, 2009 Submittals

On November 6, 2009, New Mexico submitted a revision to the Albuquerque/Bernalillo County SIP. The AQCB adopted this revision on October 14, 2009. The proposed revision amends regulation 20.11.47 NMAC, Emissions Inventory Requirements. The submittal revises section (20.11.47.14 NMAC) by adding subsection B(2), which further clarifies emission reporting requirements. Additional amendments include renumbering of the sections to account for the new subsection B(2), and minor amendments to 20.11.47.14 NMAC, subsections C(5)(f) and (D)(2), and 20.11.47.15 NMAC, subsection (C) for further clarification.

Also on November 6, 2009, New Mexico submitted a revision to the Albuquerque/Bernalillo County SIP amending Title 20, Chapter 11, Part 1, General Provisions.¹ The proposed revision amends regulation 20.11.1 NMAC, General Provisions, which applies to sources in Bernalillo county, excluding sources in Indian lands over which the AQCB lacks jurisdiction. The submittal amends sections 1, 2, 3, 5, 6, 7, 9, 10, 11 and 14 of 20.11.1 NMAC to revise and update some definitions, including the definition of volatile organic compounds (VOCs), to be consistent with the federal definition found in 40 CFR part 51, subpart F—Procedural Requirements and 40 CFR 51.100(s). Additional detail is presented in our TSD for this action.

¹ The previous revision to Title 20, Chapter 11, Part 1, General Provisions, was submitted to us for approval by the Governor of New Mexico, in a letter dated September 7, 2004, on behalf of the Albuquerque/Bernalillo County, Environmental—Health Department. The proposed Title 20, Chapter 11, Part 1, General Provisions, contained three sections titled “Resolution,” “Definitions,” and Interpretation.” The EPA initially approved Regulation I (Resolution) of the Albuquerque/Bernalillo County, New Mexico on 04/10/1980 (45 FR 24468). See 40 CFR 52.1620(c)(11). The EPA initially approved Regulation 2 (Definitions) on 04/10/1980 (45 FR 24468). Further revisions to Regulation 2 were later approved by EPA on 12/21/93 (54 FR 67330). See 40 CFR 52.1620(c)(53). The EPA initially approved Regulation 26 (Interpretation) on 02/23/1993 (58 FR 10972). See 40 CFR 52.1620(c)(49). The proposed revisions to “Resolution,” “Definitions,” and “Interpretation” reflect the new format and renumbering of the NMAC. The proposed revisions also reflect renaming of “Regulation” to “Part.” These changes were administrative in nature, and did not change the text of the SIP-approved rules. We published our approval of the recodification and renumbering of Chapter 11 on December 30, 2004 (69 FR 78312).

C. The December 15, 2010 Submittal

On December 15, 2010, New Mexico submitted a revision to the Albuquerque/Bernalillo County SIP amending Title 20, Chapter 11, Part 1, General Provisions. The AQCB approved the revision on December 8, 2010. The proposed revision amends regulation 20.11.1 NMAC, General Provisions.² The submittal amends section 20.11.1.7 NMAC adding a definition of greenhouse gases, modifying the definition of air contaminant, and renumbering the definitions accordingly.³

² The submittal also included revisions that amended 20.11.61 NMAC Prevention of Significant Deterioration and 20.11.42 NMAC Operating Permits. EPA approved the PSD SIP revision portion of the submittal effective January 30, 2012. (See 76 FR 81836).

³ 20.11.42 NMAC, Operating Permits, encompasses the Title V operating permit program for facilities within Bernalillo County. The Title V program is a delegated program, approved in the Federal Register, and does not reside in the SIP. The Title V program was last approved by EPA on 11/26/96, effective 1/27/97 (see 61 FR 60032-60034). A minor revision to correct the definition of “Major Source”, was approved by EPA on 9/8/04 (see 69 FR 54244-54247), effective 11/8/04. Proposed revisions to the Title V program in the form of amendments to 20.11.42 NMAC, were submitted to EPA on 7/22/09, and are pending approval under Title V of the CAA. Therefore, since revisions to Operating Permits are not part of the SIP, EPA is not taking action on that portion of the submittal. Today's action is only addressing the revision to 20.11.1 General Provisions.

D. The October 18, 2012 Submittal

On October 18, 2009, New Mexico submitted a revision to the Albuquerque/Bernalillo County SIP. The proposed revision amends regulation 20.11.47 NMAC, Emissions Inventory Requirements. The AQCB adopted the revision on October 10, 2012. The submittal revises sections 6, 7, 14 and 15 of 20.11.47 NMAC further clarifying various definitions, including the definition of regulated air contaminant, deletes the greenhouse gas emissions inventory requirements from section 15, and reserves the section for future revisions (20.11.47.15 NMAC). Therefore, the GHG emission inventory requirements that were part of the May 6, 2008 submittal discussed in Section II(A) above are no longer in front of us for action.

III. EPA's Evaluation of the Submittals

The revisions to be approved address Title 20, Chapter 11, Sections 1 and 47 of the NMAC. We have prepared a TSD for this proposal which details our evaluation. Our TSD may be accessed on-line at http://www.regulations.gov, Docket No. EPA-R06-OAR-2008-0696.

Our primary consideration for determining the approvability of the New Mexico submittals is whether these proposed actions comply with section 110(l) of the Act and 40 CFR part 51, subpart A—Air Emissions Reporting Requirements. Section 110(l) of the Act provides that a SIP revision must be adopted by a State after reasonable notice and public hearing. Additionally, CAA § 110(l) states that the EPA cannot approve a SIP revision if that revision would interfere with any applicable requirement regarding attainment, reasonable further progress (RFP) or any requirement established in the CAA. Additionally, approvability of these proposed actions are also based upon EPA's requirements for emissions inventories, and collecting and reporting air emissions data found in 40 CFR, part 51, Subpart A—Air Emission Reporting Requirements.

Our evaluation of the submittals found that the SIP revisions were adopted by the State after reasonable notice, a public comment period, a corresponding public hearing, and that approval of the revisions would not interfere with any CAA requirement and are approvable.

A. The May 6, 2008 Submittal

The AQCB adopted a new regulation 20.11.47 NMAC Emissions Inventory Requirements on March 12, 2008. The submittal dated May 6, 2008 revises the New Mexico SIP to include this new regulation, which applies to Albuquerque/Bernalillo County.

The regulation include sections that define the scope, duration, effective date and objective of the regulation, which is to establish requirements both for submitting inventories of air contaminants to ensure that the regulations and standards under the Air Quality Control Act and the CAA will not be violated, and to require submission of data to quantify greenhouse gas emissions in Albuquerque/Bernalillo County. Additionally, the new regulation includes a section of definitions. Definitions in the submittal include definitions for actual emissions, commencement, modification, potential to emit, shutdown, stationary source, and western backstop sulfur dioxide trading program. These definitions have been SIP-approved in previous EPA actions and are consistent with the CAA. For example the term “western backstop sulfur dioxide trading programs” (20.11.46.7(NN) NMAC) was defined and approved in a previous action on November 29, 2012 (see 77 FR 71119). These 20.11.47 NMAC revisions are mostly ministerial in nature and/or add clarification.

Additionally, the new subsection 20.11.47.14(C)—Content of Emissions Reports NMAC, outlines the information required for emission reports, and states that emission report contents shall include all information required by 40 CFR part 51, subpart A—Emissions Inventory Reporting Requirements. More information on the details of the new regulation is found in the TSD, which is provided in the docket for this rulemaking.

This submittal was adopted consistent with the public notice SIP requirements of CAA section 110(l). We find that these revisions are approvable because they add specificity to the program. Further, these revisions do not interfere with any applicable requirement concerning attainment and reasonable further progress, or any other applicable requirement, are consistent with EPA's rules and requirements in 40 CFR, part 51, Subpart A, and do not result in emissions increases. The 2012 submittal removed from EPA consideration 20.11.47.15 NMAC; Albuquerque/Bernalillo County already reports greenhouse gas emissions pursuant to 40 CFR part 98, Mandatory Greenhouse Gas Reporting. There is no requirement for reporting of non-NAAQS pollutants to be included in the SIP. There is no federal requirement that greenhouse gas emissions inventory requirements be part of the New Mexico SIP.

B. The November 6, 2009 Submittals

The November 6, 2009 submittal revises section 20.11.47.14 NMAC by adding subsection B(2) which further clarifies emission reporting requirements and indicates that a source is not required to submit an emissions report more frequently than annually. Additional amendments include renumbering of the section to account for the new subsection B(2) and minor amendments (20.11.47.14 NMAC, subsections C(5)(f) and (D)(2)), and 20.11.47.15 NMAC, subsection (C) stating that estimates of greenhouse emission need to be in pounds per year for further clarification. EPA is approving these revisions as they are non-substantial in nature. As previously noted, the 20.11.47.15 NMAC is no longer before EPA for SIP action.

Also on November 6, 2009, the New Mexico submittal revises 20.11.1 NMAC General Provisions. The submittal amends sections 1, 2, 3, 5, 6, 7, 9, 10, and 11 of 20.11.1 NMAC to revise and update definitions (section 20.1.7 NMAC), including the definition of volatile organic compounds (VOCs), to be consistent with the federal definition found in 40 CFR part 51, subpart F—Procedural Requirements and 40 CFR 51.100(s). Section 20.11.1.14 NMAC Interpretation is removed, because it was included in the rule in error when the rule was last amended by the AQCB in 2004, is duplicative and resides in the rule that addresses ambient air quality standards (20.11.8.14 NMAC Ambient Air Quality Standards, Interpretation). EPA is approving these revisions since they are consistent with federal requirements and/or non-substantial in nature. Additional information regarding these revisions is available in the TSD, which is provided in the docket for this rulemaking.

C. The December 15, 2010 Submittal

On December 15, 2010 AQCB adopted revisions to 20.11.1 NMAC, General Provisions, and 20.11.61 NMAC, Prevention of Significant Deterioration. EPA took action on the revisions to 20.11.61 NMAC, Prevention of Significant Deterioration in a previous rulemaking, but decided not to act on 20.11.1 NMAC at that time. In today's action, EPA is taking action on the revisions to 20.11.1 NMAC, General Provisions from the December 15, 2010 submittal. The AQCB adopted revisions to 20.11.1 NMAC, Section 7, Definitions. The revisions update Section 7 by adding a definition for Greenhouse gases or “GHGs” in 20.11.1.7(CC). The definition is consistent with the federal definition of GHGs. Additionally, the revisions include other non-substantive changes such as renumbering the definitions for clarity. Further, these revisions do not interfere with any applicable requirement concerning attainment and reasonable further progress, or any other applicable requirement and are consistent with section 110 of the CAA. EPA is approving these revisions to 20.11.1 NMAC, General Provisions.

D. The October 18, 2012 Submittal

The October 18, 2012 submittal revises the SIP for Albuquerque/Bernalillo County. The submittal revises sections 6, 7, 14 and 15 of 20.11.47 NMAC further clarifying various definitions including the definition of regulated air contaminant, deletes the greenhouse gas emissions inventory requirements from section 15, and reserves the section for future revisions (20.11.47.15 NMAC). The deletion of section 15 is not a relaxation of the SIP, since there is a no requirement for non-NAAQS pollutants (i.e., GHGs) to have SIP-approved reporting requirements. Albuquerque/Bernalillo County continues to report estimates of NAAQS-related emissions pursuant to EPA's requirements for emissions inventories found in 40 CFR, part 51, Subpart A and greenhouse gases pursuant to 40 CFR, part 98 “Mandatory Greenhouse Gas Reporting” (see 74 FR 56260, effective December 29, 2009).

Additionally, revisions to 20.11.47 NMAC also include deletions/or updates of definitions of pollutants associated with greenhouse gases such as perfluorocarbons, sulfur hexafluoride, the climate registry, nitrous oxide, and other definitions, such as regulated pollutant (20.11.47.7(W) NMAC), and renumbering for clarification.

This submittal was adopted consistent with the public notice SIP requirements of CAA section 110(l),⁴ and the revisions in this submittal do not interfere with any applicable requirement concerning attainment and reasonable further progress, or any other applicable requirement. We find that these revisions are approvable, because they either clarify the emissions inventory requirements and/or are non-substantive in nature.

⁴ New Mexico Register, Volume XXIII, Number 20, October 30, 2012.

IV. Final Action

Pursuant to section 110 of the Act, EPA is approving through a direct final action, five revisions to the New Mexico SIP that were submitted on May 6, 2008, November 6, 2009,⁵ December 15, 2010 and October 18, 2012. We evaluated the state's submittals and determined that they meet the applicable requirements of the CAA section 110 and applicable EPA guidance. In accordance with CAA section 110(l), these revisions will not interfere with attainment of the NAAQS, reasonable further progress, or any other applicable requirement of the CAA.

⁵ As discussed in this notice, there are two SIP submittals that were submitted on the same date, November 6, 2009—one revising 20.11.1 NMAC and one revising 20.11.47 NMAC.

EPA is publishing this rule without prior proposal because we view these as non-controversial amendments and anticipate no adverse comments. However, in the proposed rules section of this Federal Register publication, we are publishing a separate document that will serve as the proposal to approve the SIP revision if relevant adverse comments are received. This rule will be effective on April 3, 2015 without further notice unless we receive relevant adverse comments by March 4, 2015. If we receive relevant adverse comments, we will publish a timely withdrawal of this direct final rulemaking in the Federal Register informing the public that the direct final rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

V. Statutory and Executive Order Reviews

Under the Clean Air Act, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely proposes to approve state law as meeting federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 3, 2015. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen dioxides, Ozone, Particulate matter, Reporting and recordkeeping requirements, Volatile organic compounds.

Authority: 42 U.S.C. 7401 et seq.

Dated: January 15, 2015.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart GG—New Mexico

2. In § 52.1620, paragraph (c), the second table titled “EPA Approved Albuquerque/Bernalillo County, NM Regulations” is amended by revising the entry for Part 1 (20.11.1 NMAC) and adding in sequential order an entry for Part 47 (20.11.47 NMAC).

The amendments read as follows:

§ 52.1620 Identification of plan.

* * * * *

(c) * * *

EPA Approved Albuquerque/Bernalillo County, NM Regulations
State citation | Title/subject | State approval/ submittal date | EPA approval date | Explanation
New Mexico Administrative Code (NMAC) Title 20—Environmental Protection Chapter 11—Albuquerque/Bernalillo County Air Quality Control Board
Part 1 (20.11.1 NMAC) | General Provisions | 12/15/2010 | 2/2/2015 [Insert Federal Register citation] |
* * * * * * *
Part 47 (20.11.47 NMAC) | Emissions Inventory Requirements | 10/18/2012 | 2/2/2015 [Insert Federal Register citation] |
* * * * * * *

* * * * *

[FR Doc. 2015-01792 Filed 1-30-15; 8:45 am]

BILLING CODE 6560-50-P